DEPARTMENT OF HOMELAND SECURITY

Coast Guard

[Docket No. USCG-2020-0047]

Towing Safety Advisory Committee; October 2020 Teleconference

AGENCY: Coast Guard, Department of Homeland Security.

ACTION: Notice of Federal Advisory Committee teleconference meeting.

SUMMARY: The Towing Safety Advisory Committee (Committee) will meet via teleconference to discuss Task 16-01, Subchapter M Implementation. The Committee is expected to receive the final report from the subcommittee tasked with identifying the parameters Coast Guard officials should use to determine whether a vessel inspected under subchapters other than Subchapter M performs occasional towing. Additional items to be discussed are also included as agenda items in the SUPPLEMENTARY INFORMATION section below.

DATES: Meeting: The full Committee will meet by teleconference on Thursday, October 29, 2020, from 1 p.m. until 3 p.m. Eastern Standard Time. Please note that this meeting may close early if the Committee has completed its business.

Comments and supporting documents: To ensure your comments are received by Committee members before the teleconference, submit your written comments no later than October 20, 2020.

ADDRESSES: To join the teleconference or to request special accommodations, contact the individual listed in the FOR FURTHER INFORMATION CONTACT section no later than 1 p.m. on October 20, 2020, to obtain the needed information. The number of teleconference lines are limited and will be available on a first-come, first-served basis.

Instructions: You are free to submit comments at any time, including orally at the teleconference, but if you want Committee members to review your comments before the teleconference, please submit your comments no later than October 20, 2020. We encourage you to submit comments through the Federal eRulemaking Portal at https://www.regulations.gov. If your material cannot be submitted using https://www.regulations.gov call or email the individual in the FOR FURTHER INFORMATION CONTACT section of this document for alternate instructions. You must include the docket number [USCG-2020-0047]. Comments received will be posted without alteration at https://www.regulations.gov, including any personal information provided. For more about privacy and submissions in response to this document, see DHS's eRulemaking System of Records notice (85FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Matthew D. Layman, Alternate Designated Federal Officer of the Towing Safety Advisory Committee, 2703 Martin Luther King Jr Ave. SE, Stop 7509, Washington, DC 20593-7509, telephone 202-372-1421, fax 202-372-8382 or Matthew.D.Layman@uscg.mil.

SUPPLEMENTARY INFORMATION: The Towing Safety Advisory Committee provides advice and recommendations to the Department of Homeland Security on matters related to shallow-draft inland and coastal waterway navigation and towing safety. It was established by Public Law 96-380 in 1980 and was an active committee on December 3, 2018, the day before the Frank LoBiondo Coast Guard Authorization Act of 2018 (Pub. L. 115-282) was enacted, and operates under provisions of Sec. 601 (d) of that Act.

Agenda

The agenda for the October 29, 2020, teleconference meeting is as follows:

(1) Final report from the Subcommittee on “Recommendations on the Implementation of 46 Code of Federal Regulations Subchapter M—Inspection of Towing Vessels (Task 16-01).

(2) Update on the National Towing Safety Advisory Committee and the December 4, 2020 termination date for the Towing Safety Advisory Committee.

(3) Update from the Office of Commercial Vessel Compliance on the status of Subchapter M Implementation.

(4) Awards and recognition.

(5) Public Comment period.

A copy of all pre-meeting documentation will be available at https://www.dco.uscg.mil/Our-Organization/Assistant-Commandant-for-Prevention-Policy-CG-5P/Commercial-Regulations-standards-CG-5PS/Office-of-Operating-and-Environmental-Standards/vfos/TSAC/. Alternatively, you may contact Mr. Matthew Layman as noted in the FOR FURTHER INFORMATION CONTACT section above.

During the October 29, 2020 teleconference, a public comment period will be held from approximately 2:45 p.m. to 3 p.m. Eastern Standard Time. Speakers are requested to limit their comments to 3 minutes. Please note that this public comment period may start before 2:45 p.m. if all other agenda items have been covered and may end before 3 p.m. if all of those wishing to comment have done so. Please contact Mr. Matthew D. Layman, listed in the FOR FURTHER INFORMATION CONTACT section to register as a speaker.

Dated: September 18, 2020.
Jeffrey G. Lantz,
Director of Commercial Regulations and Standards.

[FR Doc. 2020-21742 Filed 9-30-20; 8:45 am]

BILLING CODE 9110-04-P